DEPARTMENT OF HEALTH AND HUMAN SERVICES

Office of Inspector General

Program Exclusions: August 2001

AGENCY: Office of Inspector General, HHS.

ACTION: Notice of program exclusions.

During the month of August 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ALBERTY, GLENDA FAYE | 09/20/2001
IDABEL, OK
AMERICAN FAMILY HOME CARE, INC | 09/20/2001
N KINGSTOWN, RI
ANASTASIO, ANDREW S | 09/20/2001
NEW HAVEN, CT
ANDREOZZI, ROCCO J JR | 09/20/2001
WARWICK, RI
ARWAS, RAPHAEL | 09/20/2001
AVENTURA, FL
ASONYE, IBEABUCHI ONEYEMA | 09/20/2001
FLOSSMOOR, IL
BENNETT, WILLIAM LEON | 09/20/2001
DETROIT, MI
BENTLEY, FRANK R | 09/20/2001
TOPEKA, KS
BILANI, SAMI SUHEIL | 09/20/2001
DEARBORN HGTS, MI
BOEHM, GREGORY X | 09/20/2001
SHAKER HGTS, OH
BONNER, LILLIE MAE | 09/20/2001
RENO, NV
BOONE TAYLOR PHARMACY | 09/20/2001
AHOSKIE, NC
CARTER, JASON MICHAEL | 09/20/2001
MEMPHIS, TN
CARTER-BROWN, DINAH L | 09/20/2001
ALBION, IN
CARVELLI, LINDA | 09/20/2001
HALLETSVILLE, TX
CESTARI, JOSEPH | 09/20/2001
LAWRENCE, NY
CESTARI PHARMACY, INC | 09/20/2001
INWOOD, NY
CHAMPION, DAVID M | 09/20/2001
DECATUR, GA
CLARK, SHERRON | 09/20/2001
CRYSTAL SPRINGS, MS
CLEARWATER CLINICAL LAB, INC | 09/20/2001
CLEARWATER, FL
COMMUNITY CLINICAL LAB, INC | 09/20/2001
CLEARWATER, FL
COMPREHENSIVE CLINICAL CTR | 09/20/2001
E GREENBUSH, NY
D'ANJOU, THOMAS | 09/20/2001
ATLANTA, GA
DANIELS, JERRY G | 09/20/2001
ANACONDA, MT
DEBOSE, BURREL MICHAEL JR | 09/20/2001
KENT, WA
DIAZ, LACARO | 09/20/2001
MIAMI, FL
DOMINGUEZ, RAMON | 09/20/2001
MIAMI, FL
DOMINGUEZ, RAMON | 09/20/2001
MIAMI, FL
DYEVICH, KEVIN J | 05/01/1996
MILLTOWN, NJ
EDWARDS, SONYA Z | 09/20/2001
MILWAUKEE, WI
FABRIKANT, JAY | 09/20/2001
NEW YORK, NY
FINGAL, JOHN JOSEPH | 09/20/2001
MITCHELLVILLE, MD
FIRST CARE HAMTRAMCK DENTAL | 09/20/2001
HAMTRAMCK, MI
FORTIN, JEFFREY A | 09/20/2001
DEVENS, MA
GAINES, WILLIAM P JR | 09/20/2001
BAKER, LA
GATES, BONNIE BELLE | 09/20/2001
WATERLOO, IA
GEPP, VINCENT | 09/20/2001
PALM HARBOR, FL
GOMEZ-MARTINEZ, YOLANDA | 09/20/2001
SAN LORENZO, PR
GOODWIN, GARY L | 09/20/2001
LEXINGTON, KY
GRANDIDGE, WAYNE B | 09/20/2001
N KINGSTOWN, RI
GRAU, JOSE E | 09/20/2001
SPRINGHILL, FL
GRIFFIN JENNINGS, SHERRILL P | 09/20/2001
LAFAYETTE, LA
GUTMAN, ALBERTO | 09/20/2001
MIAMI, FL
HARRY, JACLYNN A | 09/20/2001
VANCOUVER, WA
HEART TRACE OF NASHUA, INC | 09/20/2001
DEVENS, MA
HERNANDEZ, JOSE | 09/20/2001
MIAMI, FL
HERRERA, ALFREDO J | 09/20/2001
ELLICOTT CITY, MD
HILDRETH, DANA E | 09/20/2001
MACON, MO
HOLCOMB, RONALD D | 09/20/2001
GAINESVILLE, GA
HULBERT, DEBORAH ANN | 09/20/2001
FT MYERS, FL
HULIN, MICKIE | 09/20/2001
COLLEGE PARK, GA
HUNTER, SAUNDRA MARIE | 09/20/2001
DETROIT, MI
HURST, PATRICK J | 09/20/2001
LOMPOR, CA
IMANSEPAHI, REZA | 09/20/2001
DENVER, CO
JOHNSON, WILLIAM | 09/20/2001
STONE MOUNTAIN, GA
JOHNSON, LANNES NEIL | 09/20/2001
TULSA, OK
JOSSELYN, REBECCA L | 09/20/2001
MANCHESTER, NH
KAZMA, ROBERT M | 09/20/2001
FERNDALE, MI
KILGORE, SAMUEL E | 09/20/2001
UNION POINT, GA
LILLEY, GALE BROWNLOW | 09/20/2001
ELDON, MO
LOUDERMILK, NADEANE | 09/20/2001
WITCHITA, KS
LTC PHARMACY, INC | 09/28/2000
MINONK, IL
MAISONET, CARLOS | 09/20/2001
TOA ALTA, PR
MARIN, RITA F | 09/20/2001
ATLANTA, GA
MARTI-AGOSTO, MARTA | 09/20/2001
BAYAMON, PR
MARTINEZ, SOPHIE | 09/20/2001
CANJILON, NM
MAYER, JAN A | 09/20/2001
NASHVILLE, TN
MAZAL, BENJAMIN C | 09/20/2001
ENGLEWOOD, OH
MCCAUSLAND, JOHN M JR | 09/20/2001
ERLANGER, KY
MCCORMICK, THOMAS L | 09/20/2001
GRAND BLANC, MI
MCCOY, PAUL | 09/20/2001
CHICAGO, IL
MCDONALD, JOHN PATRICK | 09/20/2001
WOODLAND PARK, CO
MCKEOWN, JAMES L SR | 09/20/2001
CLEARWATER, FL
MELKONYAN, ARSEN M | 09/20/2001
N HOLLYWOOD, CA
MERCADO, ZENAIDA | 09/20/2001
CORAL GABLES, FL
MUNOZ, JOSE A | 09/20/2001
WHITESTONE, NY
MURPHY, SHARON KAY | 09/20/2001
GRAND SALINE, TX
NAGAPETYAN, OGANES M | 09/20/2001
ELMONTE, CA
NAPOLITANO, THOMAS | 09/20/2001
HOWARD BEACH, NY
NEAL, CONNIE LYNN | 09/20/2001
NEW ULM, MN
NEW ERA ALTERNATIVE TREATMENT | 09/20/2001
HIGHLAND PARK, MI
NORMAN, BRIGID | 09/20/2001
RIVERDALE, GA
NWANKWO, FESTUS | 09/20/2001
UNION, NJ
OPTIMUMCARE MEDICAL CTR, L L C | 09/20/2001
GAITHERSBURG, MD
OUDIN, MADELYN ALEXIS | 09/20/2001
EL CENTRO, CA
PALMER, VERLYNNE G | 09/20/2001
SALT LAKE CITY, UT
PEREZ, DULCE M | 09/20/2001
MIAMI, FL
PINKARD, DWAYNE LAMAR | 09/20/2001
DETROIT, MI
POTTS, ELENA THERESA | 09/20/2001
PALM DESERT, CA
PUKAS, BRENDA | 09/20/2001
WESTERLY, RI
RAMOS, DOMINGO | 09/20/2001
MIAMI, FL
REED, BRENDA MARIE | 09/20/2001
DETROIT, MI
REEVES, MICHAEL | 09/20/2001
LITHONIA, GA
REVELS, ROBERT STEVEN | 09/20/2001
ROCK HILL, SC
RILEY, JAMES E | 09/20/2001
BELLVUE, OH
ROBERTSON, LAWRENCE MARSHALL | 06/18/2001
DENVER, CO
ROBLES, NORA LYDIA | 09/20/2001
TUCSON, AZ
RONALD Q SHERMER, D M D, P A | 09/20/2001
COLUMBIA, SC
ROWE, MICHAEL H | 09/20/2001
HURRICANE, UT
SALAZAR, JAMES ALBERT | 09/20/2001
THE WOODLANDS, TX
SALAZAR, HERNAN EFRAIN | 09/20/2001
THE WOODLANDS, TX
SAMI BILANI, D D S, P C | 09/20/2001
DEARBORN, MI
SAVERY, FRANCOIS L | 09/20/2001
LAS VEGAS, NV
SCHMOOKLER, NAZILYA | 09/20/2001
BROOKLYN, NY
SCOTT, DAVID JR | 09/20/2001
MUSKEGON, MI
SCOTT, TRACY LYNN | 09/20/2001
HAWORTH, OK
SCOW, RACHELLE EVA | 09/20/2001
PARACHUTE, CO
SHAH, BHUPENDRA N | 09/20/2001
OLD BROOKVILLE, NY
SHROUT, WILLIAM J | 09/20/2001
FAIRTON, NJ
SHUMAN, VINCENT MICHAEL | 09/20/2001
N LAS VEGAS, NV
SMITH, LINDA M | 09/20/2001
WESTBURY, NY
SOLTERO, SUSAN C | 09/20/2001
MIAMI, FL
SPRAGUE, TERI JO | 09/20/2001
CRESTON, IA
STONE HILL HEALTH SVCS, INC | 09/20/2001
WESTERLY, RI
TAMRAZYAN, GAGIK M | 09/20/2001
ELMONTE, CA
THIELEN, TANYA LEE | 09/20/2001
ALBANY, MN
TUNICK, EDWIN | 09/20/2001
FT LAUDERDALE, FL
TURNBOUGH, FELICIA | 09/20/2001
JONESBORO, GA
TYSON, RICHARD | 09/20/2001
PARKLAND, FL
VANDERSLUIS, MICHAEL ALBERT | 06/16/1999
DE MOTTE, IN
WANG, JOE CHENG | 09/20/2001
TEMPLE CITY, CA
WILLIAMS, DOTTIE MARIE | 09/20/2001
TUCSON, AZ
FELONY CONVICTION FOR HEALTH CARE FRAUD
BRANHAM, BRADLEY WILLIS | 09/20/2001
COLDWATER, MI
CARLSON, ERIC DOUGLAS | 09/20/2001
SIERRA MADRE, CA
CASSON, RONALD JULIAN JR | 09/20/2001
SAN DIEGO, CA
DURAND CLINIC, P C | 09/20/2001
DURAND, MI
FROSOLONE, CAMILLE | 09/20/2001
GUILFORD, CT
HOLLADY, JASON LYNN | 09/20/2001
LAKE ANGELUS, MI
RAVENSCRAFT, SYLVESTER DALE | 09/20/2001
LYNCHBURG, OH
SINGH, MARIA CORAZON C | 09/20/2001
WESLEY HILLS, NY
STEFFEN, H PAUL | 09/20/2001
PAULSBORO, NJ
FELONY CONTROL SUBSTANCE CONVICTION
BETTS-WALKER, CAROLYN RENEE | 09/20/2001
CARLISLE, AR
BLAIR, KATHERINE MARIE | 09/20/2001
CANTON, OH
CARR, GEORGE AUSTIN | 09/20/2001
E ELMHURST, NY
CHAMPLAIN, JANENNE | 09/20/2001
VIAN, OK
EMERY, WILLIAM L | 09/20/2001
BOISE, ID
GLAZE, PENNY L | 09/20/2001
WESTPORT, IN
OEXMANN, RICHARD BUSSE | 09/20/2001
TULSA, OK
ROBERTS, HANDEL JAY | 09/20/2001
CANTON, OH
RODRIGUEZ, JAMES J | 09/20/2001
SELMER, TN
THEDE, TARA | 09/20/2001
FT WORTH, TX
PATIENT ABUSE/NEGLECT CONVICTIONS
BALOURDAS, GREGORY MICHAEL | 09/20/2001
SAN DIEGO, CA
BURGESS, RAYMOND ODELL JR | 09/20/2001
TUCSON, AZ
BURTON, DIANE DONNA LOUISE | 09/20/2001
OKLAHOMA CITY, OK
CAIN, PATRICIA ELLA | 09/20/2001
LAS VEGAS, NV
CLACKLEY, MACK O | 09/20/2001
DELMONT, NJ
COCKRELL, JACK | 09/20/2001
SALEM, OR
COMPASSIONATE HOME CARE, INC | 09/20/2001
MINNEAPOLIS, MN
DERBY, SANDRA | 09/20/2001
BLOOMFIELD, NY
DONNER, JEFFREY S | 09/20/2001
WESTON, FL
DOWD, CLAIRE | 09/20/2001
BROOKSVILLE, MS
GANN, TINA CAROL | 09/20/2001
LAWTON, OK
GRAHAM, TIMOTHY SHAWN | 09/20/2001
DILLON, MT
HILL, MARK ANTHONY | 09/20/2001
TAFT, OK
ILAIYAN, KATHERINE E | 09/20/2001
HYDE PARK, NY
JONES, WALTER COLUMBUS | 09/20/2001
FT WORTH, TX
KLAUSNER, ELIAH STEVEN | 09/20/2001
DENVER, CO
LACY, TYSON SHEROD | 09/20/2001
COLUMBIA, TN
LIGGETT, EDITH RENIA | 09/20/2001
MESA, AZ
LISKEY, GLORIA JEAN | 09/20/2001
BRIDGEWATER, VA
LOCKETT, JOVON MARIE | 09/20/2001
COMMERCE, OK
LYNCH, CHRIS JOHN | 09/20/2001
CALIPATRIA, CA
MARTINO, DONNA MARIE | 09/20/2001
NEMO, TX
MCDOUGALL, DEBBIE K | 09/20/2001
BOUNTIFUL, UT
MENDEZ, LUCELLE ADA | 09/20/2001
OKLAHOMA CITY, OK
MILLER, DAVID W | 09/20/2001
MARCY, NY
MOOREHEAD, WINSTON | 09/20/2001
YONKERS, NY
PACKER, FRANCINE BARTON | 09/20/2001
PETERSBURG, VA
PIERRE, AVIOLLE | 09/20/2001
ELMONT, NY
POINTER, BRENDA DENISE | 09/20/2001
BALTIMORE, MD
RUCKER, DELWIN JON | 09/20/2001
ENID, OK
SANDOVAL, SAMUEL CARMEN DAVID | 09/20/2001
LAKEVILLE, OH
SIMMONS, ANTOWANE | 09/20/2001
BUFFALO, NY
SMELIK, STEVEN F | 09/20/2001
FORT ANN, NY
THOFIELD, PEARLENE | 09/20/2001
GULFPORT VALLEY, MS
VALDIVIA, RODOLFO CARLOS | 09/20/2001
EL PASO, TX
WELCH, JEFFREY | 09/20/2001
PENN YAN, NY
WILSON, WILLIAM FRANK | 09/20/2001
MONROE, CA
YOUSUFZAI, BASHIR A | 09/20/2001
DU BOIS, PA
CONTROLLED SUBSTANCE CONVICTIONS
HODSON, BRUCE A | 09/20/2001
ATTICA, IN
LICENSE REVOCATION/SUSPENSION/SURRENDERED
ANAND, VIKRAMJIT S | 09/20/2001
ITHACA, NY
ANDERSON, DAVID P | 09/20/2001
SAN DIEGO, CA
ANDERSON, DEBORAH A | 09/20/2001
MIDDLEBURY, VT
BALEN, MICHELLE LACOUR | 09/20/2001
MALVERN, PA
BARAD, DAVID | 09/20/2001
CLOSTER, NJ
BARTON, SCOTT D | 09/20/2001
CLINTON, CT
BASS, RONALD LETHRIE | 09/20/2001
SARALAND, AL
BEATLEY, GINGER SHORT | 09/20/2001
STEPHENS CITY, VA
BEATTY, SCOTT ALLEN | 09/20/2001
ELWOOD, IN
BEDFORD, CHRISTINE L | 09/20/2001
WOONSOCKET, RI
BELTS, RICHARD PAUL | 09/20/2001
STEILACOOM, WA
BENSON, MARSHA LYNN | 09/20/2001
FERGUS FALLS, MN
BEZNER, WANDA MARIE | 09/20/2001
WICHITA FALLS, TX
BIZER, DAWN ROSE | 09/20/2001
VENICE, FL
BLACKSTONE, QUENTIN M | 09/20/2001
SACO, ME
BODKIN, DANNA KAY | 09/20/2001
WICHITA FALLS, TX
BODNAR, MARY F | 09/20/2001
W MIFFLIN, PA
BOLING, GINA R | 09/20/2001
CROWDER, MS
BONNELL, JOHN N | 09/20/2001
APPLETON, WI
BOOTH, SALLY ANN | 09/20/2001
ZOINSVILLE, IN
BOURBEAU, VERONICA M | 09/20/2001
SALEM, MA
BOWLES, LAURIE H | 09/20/2001
CHARLOTTSVILLE, VA
BRASHER, TRACEY CAROL | 09/20/2001
HAMILTON, AL
BRENNAMAN, BRUCE HOWARD | 09/20/2001
COLUMBUS, GA
BYRD, JOHN ELVIS | 09/20/2001
MANILA, AR
CANAMORE, MELVIN DANIEL | 09/20/2001
PARAGOULD, AR
CARAGINE, PAUL J JR | 09/20/2001
KINNELON, NJ
CARTER, JUDITH A | 09/20/2001
NICHOLASVILLE, KY
CHAMBERLAIN, ALEXANDER | 09/20/2001
TUCSON, AZ
CHENOWETH, CHERYL LYNN | 09/20/2001
LUBBOCK, TX
CHESSON, JAN M | 09/20/2001
LAWRENCE, MA
CLARK, CHRISTINE DIANA | 09/20/2001
LEAGUE CITY, TX
CLARK, KATHLEEN M | 09/20/2001
CUMBERLAND, RI
COBURN, MELANIE | 09/20/2001
WARWICK, RI
CODY, KATHLEEN RENEE | 09/20/2001
BATESVILLE, AR
CONTRERAS, KELLY RAE | 09/20/2001
LODI, CA
COOK, TYRONE | 09/20/2001
PHILADELPHIA, PA
CUNNINGHAM, ROXANNE L | 09/20/2001
NORTHGLENN, CO
DAFFRON, BONNIE BARBARA | 09/20/2001
WAYCROSS, GA
DANIEL, KEITH BRIAN | 09/20/2001
VIDOR, TX
DAVIS, TERRY B | 09/20/2001
MEMPHIS, TN
DAVIS, JAMES E | 09/20/2001
BURLINGTON, VT
DEUPREE, WILLIAM DWIGHT | 09/20/2001
SHELBYVILLE, IN
DILLS, RICHARD AARON | 09/20/2001
BIG SPRING, TX
DILORENZO, DIANE M | 09/20/2001
PROVIDENCE, RI
DILUCA, CHRISTINE DECECCO | 09/20/2001
MCKEESPORT, PA
DOUGLAS, TAMMY JO | 09/20/2001
TERRE HAUTE, IN
EDMONDS, KARLA JO | 09/20/2001
GUNTER, TX
ERGIN, NEVIT O | 09/20/2001
SANTA CRUZ, CA
ERNST, ANNE KENNEDY | 09/20/2001
ORANGE, TX
FAFINSKI, CAROL ANN KNABB | 09/20/2001
CLINTON, MD
FARRIS, JOEL | 09/20/2001
NEPTUNE, NJ
FAULKNER, PATRICIA T | 09/20/2001
WHITEHALL, OH
FORD, DEBORAH MICHELLE | 09/20/2001
DALEVILLE, AL
FORMAN, TOD F | 09/20/2001
MARSHFIELD, MA
FOWLER, THANA | 09/20/2001
SAN ANGELO, TX
FRICKS, JAEMS | 09/20/2001
TOMS RIVER, NJ
GARVEY, LAURA J | 09/20/2001
SAN ANGELO, TX
GAUSE, JANEIL | 09/20/2001
LEHI, UT
GILLENWATER, DAVID RAY | 09/20/2001
SUWANEE, GA
GOLDENBERG, JACOB EMMANUEL | 09/20/2001
FORT BRAGG, CA
HEADLEY, IKESHIA M | 09/20/2001
FALL RIVER, MA
HENDERSON, LACHELLE | 09/20/2001
KILMARNOCK, VA
HENRIKSON, NANCEE J | 09/20/2001
GLEN ELLYN, IL
HEREDIA, CORRINA | 09/20/2001
SURPRISE, AZ
HERICKHOFF, JEFFREY JOSEPH | 09/20/2001
ST PAUL, MN
HIGGINS, SHARON | 09/20/2001
SCHUYLKILL HAVEN, PA
HIGMAN, KAREN E | 09/20/2001
WEBB CITY, MO
HILL, JOAN MELIN | 09/20/2001
RALEIGH, NC
HODGES, REBECCA CAROL | 09/20/2001
SAN ANGELO, TX
HOWELL, MARK STEVEN | 09/20/2001
HALTOM CITY, TX
ILAGAN, CORAZON S | 09/20/2001
NEW BRITAIN, CT
JACKSON, PEARL A | 09/20/2001
SHAWNEETOWN, IL
JESSER, MARY E | 09/20/2001
CRANSTON, RI
JOHNSON, ARIA MARIE | 09/20/2001
DALLAS, TX
JOHNSON, SHILOH E | 09/20/2001
CHARLESTOWN, RI
JOHNSON, MANDI MICHELE | 09/20/2001
EL RENO, OK
JONES, SHERRY L | 09/20/2001
ST ALBANS, VT
JULIAN, ALEXANDER M | 09/20/2001
SAN FRANCISCO, CA
KASPER, RICHARD G | 09/20/2001
WILLMAR, MN
KAY, GARY S II | 09/20/2001
TUCSON, AZ
KIM, RONALD RIN | 09/20/2001
IRVINE, CA
LACQUEMENT, CHESTER LOUIS III | 09/20/2001
OKLAHOMA CITY, OK
LAGRANGE, MATTHEW | 09/20/2001
INDIANAPOLIS, IN
LANGLOIS, SHERRI L | 09/20/2001
BURLINGTON, VT
LAPORTE, DIANE MARIE | 09/20/2001
BEACH PARK, IL
LEE, YUNG M | 09/20/2001
GLEN ARM, MD
LINDEMANN, ALAN R | 09/20/2001
FARGO, ND
LITT, LAWRENCE L | 09/20/2001
SCHERTZ, TX
LOBRUTTO, JOSEPH | 09/20/2001
MADISONVILLE, KY
LOFTON, JODY DENIS | 09/20/2001
LEBANON, IN
LOOPER, KERRI LYNN | 09/20/2001
DENTON, TX
LOVOI, SUSAN JANE | 09/20/2001
TULSA, OK
LUCK, GREGORY C | 09/20/2001
YARMOUTH, ME
MAISONNEUVE, LOUIS PHILIPPE | 09/20/2001
S OZONE PARK, NY
MAJENTY, NADINE M | 09/20/2001
PHOENIX, AZ
MAJOR, CAROL A | 09/20/2001
RIVERSIDE, RI
MARLETTE, WAYNE LEE | 09/20/2001
PEKIN, IL
MARSH, ARTHUR C | 09/20/2001
ST SIMONS ISLAND, GA
MCEWEN, AERICA | 09/20/2001
PHOENIX, AZ
MCGEE, BRIDGETTE | 09/20/2001
GOREVILLE, IL
MERRITT, JANETTA MICHELLE | 09/20/2001
JOINER, AR
MERSHON, PAUL DUGAN | 09/20/2001
LOUISVILLE, KY
MOORE, SHARON D | 09/20/2001
PROVIDENCE, RI
MORGENROTH, DEBRA KAREN | 09/20/2001
PORTLAND, TX
MOSHER, TIFFANY LEE | 09/20/2001
SPENCER, IA
MULLAN, PAUL A | 09/20/2001
BALTIMORE, MD
NAPPA, THOMAS P | 09/20/2001
GREENE, RI
NASHAD, ALI | 09/20/2001
RUTLAND, VT
NEALS, SHERRY | 09/20/2001
JERSEY CITY, NJ
NEELEY, SANDRA A | 09/20/2001
GREENVILLE, SC
NEVINS, JULIE ANNE | 09/20/2001
OTTAWA, IL
PEERY, LISA MICHELLE | 09/20/2001
ARDMORE, OK
PERRY, MARY ANN | 09/20/2001
PROVIDENCE, RI
PHILLIPS, SUSAN | 09/20/2001
FORT WORTH, TX
PHILLIPS, DAVID BAKER | 09/20/2001
INDIANAPOLIS, IN
PIERCY, SHARON KAY | 09/20/2001
CHRISTOPHER, IL
PINHAS, SIMON J | 09/20/2001
BEVERLY HILLS, CA
POTTS, LINDSAY A | 09/20/2001
NEWPORT, RI
PREMER, ELAINE GAIL | 09/20/2001
LOS ANGELES, CA
PRUITT, MICHAEL DAVID | 09/20/2001
MISSION VIEJO, CA
RALSTON, PATRICIA MARIE | 09/20/2001
VALLEJO, CA
RAMIREZ, TERESA F | 09/20/2001
MESA, AZ
RAMIREZ, THERESA MAY | 09/20/2001
CHOCHILLA, CA
RATHBUN, RENEA SUE | 09/20/2001
PENNVILLE, IN
REYES, RONALD E | 09/20/2001
YUMA, AZ
RICHEY, TERRI RENEE | 09/20/2001
SCOTTSBURG, IN
ROBINSON, BERNICE LAROSE | 09/20/2001
CICERO, IL
ROGERS, TAMRA M | 09/20/2001
CHICAGO, IL
ROONEY, MICHAEL JOHN | 09/20/2001
IONE, CA
ROSE, LEESIA MARIE | 09/20/2001
DAYTON, TX
ROWE, RUTH S | 09/20/2001
GLOUCESTER, MA
RUNNER, ROCHELLE LEIGH | 09/20/2001
CHARLESTON, IL
RUSSELL, JAMES W | 09/20/2001
NASHVILLE, TN
RUTHERFORD, ANGELA RENEE | 09/20/2001
EVA, AL
RYAN, BARBARA JEAN | 09/20/2001
MOORE, OK
SADDLER, TAMMY WILLMAN | 09/20/2001
ATLANTA, IL
SANDERS, JEAN | 09/20/2001
BALDWINSVILLE, NY
SCHAUERHAMER, ROBERT ALAN | 09/20/2001
APPLE VALLEY, MN
SCHELL, CHRISTINE | 09/20/2001
NEWPORT, RI
SCOTT, TRAVIS DEAN | 09/20/2001
RIVERTON, UT
SEAGERS, RAPHEAL SCOTT | 09/20/2001
ROWLETT, TX
SERENO, PATRICIA | 09/20/2001
HOWELL, NJ
SHAFFER, JEFFERY ALLAN | 09/20/2001
FEDERAL WAY, WA
SIEPMANN, LAURA M | 09/20/2001
ORIENT, ME
SLAY, JERRY L | 09/20/2001
BRENTWOOD, TN
SMITH, CHAD M | 09/20/2001
FOUNTAIN HILLS, AZ
SORK, ROY ALLEN | 09/20/2001
EL PASO, TX
SPENCE, STEFANIE ANNE | 09/20/2001
DOTHAN, AL
ST GERMAIN, GAIL M | 09/20/2001
WOONSOCKET, RI
STARK, CHRISTIE L | 09/20/2001
MANCHESTER, NH
THOMPSON, JOY R | 09/20/2001
STANLEY, NY
TOMARCHIO, JANET L | 09/20/2001
PORTLAND, ME
TRUJILLO, CHRISTINE A | 09/20/2001
ASHLAND CITY, TN
TURNER, TERRI LYNN | 08/20/2001
GEARY, OK
VALENZUELA, GUADALUPE | 09/01/2001
PHOENIX, AZ
VANCE, MARJORIE LOU | 09/20/2001
HOUSTON, TX
WALLACE, LINDA J | 09/20/2001
AGAWAM, MA
WARNER, RENE JR | 09/20/2001
LOGANSPORT, IN
WELCH, SUSAN M | 09/20/2001
PROVIDENCE, RI
WELCH, BRENDA KAYE | 09/20/2001
WHITEWRIGHT, TX
WELLS, WEETONIA ANN | 09/20/2001
BOONEVILLE, AR
WILLIAMS, MARITZA T | 09/20/2001
SUNBURY, PA
WOODERSON, PHILLIP CLYDE | 09/20/2001
INDIANOLA, IA
WRIGHT, KATHE L | 09/20/2001
WILLIAMSPORT, PA
YAN, MICHELLE LIU | 09/20/2001
WALNUT, CA
ZILKA, EZECKIEL | 09/20/2001
LOS ANGELES, CA
FEDERAL/STATE EXCLUSION/SUSPENSION
AUSTRIACO, JOSE D | 09/20/2001
MAYWOOD, IL
CHEN, CHENG TAI | 09/20/2001
CHICAGO, IL
GORDON, BARBARA | 09/20/2001
S PLAINFIELD, NJ
JAIN, KANAKMAL | 09/20/2001
HANOVER PARK, IL
ROBERTI, SUZANNE CAROLYN | 09/20/2001
PORTLAND, OR
ROBERTI, JOHN | 09/20/2001
PORTLAND, OR
QUALITY OF CARE VIOLATIONS
STRINE, WALTER M JR | 07/11/2001
MEDIA, PA
FRAUD/KICKBACKS
ADULT & ADOLESCENT PSYCHIATRY | 09/24/1998
WEST HAVEN, CT
BALISTOCKY, MARVIN H | 02/21/2001
PLYMOUTH MEETING, PA
COLORADO NEUROSURGERY, P C | 06/18/2001
DENVER, CO
DOMINGUEZ, RAMON | 11/15/1999
MIAMI, FL
HERTZ, BRADLEY | 03/23/2001
MIAMI, FL
INTERIM HEALTHCARE OF HOLLYWOO | 03/23/2001
MIAMI, FL
MACLEOD, JOHN A | 08/26/2001
CRANSTON, RI
MOORE, D WAYNE | 11/27/2000
E BOOTHBAY, ME
O'CALLAGHAN, MARY STEWART | 06/20/2001
TRABUCO CANYON, CA
SARPONG, GODFRIED OWUSU | 09/20/2001
HOUSTON, TX
VANDERSLUIS, MICHAEL ALBERT | 06/16/1999
DE MOTTE, IN
OWNED/CONTROLLED BY CONVICTED
ALSI CARE SERVICES, INC | 09/20/2001
MIAMI, FL
ALSI MEDICAL EQUIPMENT, INC | 09/20/2001
MIAMI, FL
AMBULATORY HEALTH ASSOC, INC | 09/20/2001
ORLANDO, FL
ARMITAGE CHIROPRACTIC | 09/20/2001
EDGELEY, ND
ASSEM H ADMAD, D C | 09/20/2001
SAN JOSE, CA
BODY ENERGETICS, INC | 09/20/2001
ELLICOTT CITY, MD
C & P NURSING SERVICES, INC | 09/20/2001
MIAMI, FL
CHARITY HOME HEALTH CARE, INC | 09/20/2001
MIAMI, FL
FLORIDA CHIROPRACTIC CENTER | 09/20/2001
PALM HARBOR, FL
GOLD RIVER HEALTHCARE SALES | 09/20/2001
SACRAMENTO, CA
GOOD NURSING SERVICES, INC | 09/20/2001
MIAMI, FL
OXY MED SERVICES, INC | 09/20/2001
OYSTER BAY COVE, NY
PEACH STATE SONOGRAPHERS, INC | 09/20/2001
TUCKER, GA
PSYCHOLOGICAL CONNECTIONS, INC | 09/20/2001
CHEVY CHASE, MD
PURE CARE NURSING SVCES, INC | 09/20/2001
MIAMI, FL
RITE AID NURSING HOME HEALTH | 09/20/2001
MIAMI, FL
TEXOMA CHIROPRACTIC CLINIC | 09/20/2001
SHERMAN, TX
DEFAULT ON HEAL LOAN
ADLER, JANE M | 09/20/2001
POTOMAC, MD
AGUIAR, CARLOS R | 09/20/2001
QUINCY, MA
ALLEN, KENNETH W | 09/20/2001
SUTTON, MA
ASHKINAZY, ALAN C | 09/20/2001
COOPER CITY, FL
BERLOW, RUSTIN R | 09/20/2001
SAN DIEGO, CA
BETHEL-MURRAY, KIMBERLY F | 09/20/2001
DAYTON, OH
BEVERLEIGH, HOWARD K | 09/20/2001
SAN JOSE, CA
BRICKER, DANIEL SHAWN | 09/20/2001
LAJOLLA, CA
BROUSSARD, LINDA CATHERINE | 09/20/2001
LOS ANGELES, CA
BROWN, JEFFREY TODD | 09/20/2001
TRABUCO CANYON, CA
BROWN, SHERRY L | 09/20/2001
PANAMA CITY, FL
CAFFERTY, RANDALL J | 09/20/2001
PUYALLUP, WA
CAPILLI, MICHAEL A | 07/30/2001
LONG BRANCH, NJ
CRAIG, EUGENE SLOAN JR | 09/20/2001
BALTIMORE, MD
DAS, BRAJENDRA CHAND | 09/20/2001
DES MOINES, IA
DEHGHAN, AMIR ASAD | 09/20/2001
CLAYTON, CA
DORIAN, SARO S | 09/20/2001
GLENDALE, CA
EADS, TRACIE J | 09/20/2001
BOWLING GREEN, KY
EASTMAN, LISA L | 09/20/2001
MANHATTAN, KS
EITEMILLER, TODD O | 09/20/2001
CHADRON, NE
FOWLER, WAYNE A | 09/20/2001
ANDOVER, MA
GALLIHER, JACK THOMAS | 09/20/2001
BREA, CA
GAYDOS, RICHARD F JR | 09/20/2001
FONTANA, CA
GULLA, KEVIN M | 09/20/2001
W CHESTER, OH
GUTIERREZ, JAIME JAVIER | 09/20/2001
DEL RIO, TX
GUYER, LARRY GENE | 09/20/2001
SEBASTOPOL, CA
HALL, PATRICIA M | 09/20/2001
BRIGHTON, MA
HALL, ANTHONY P | 09/20/2001
DAYTON, OH
HARRISON, ALLEN JEFFREY | 09/20/2001
ENGLEWOOD, CO
HARVEY, ALEXIS HUTTON | 09/20/2001
FELTON, CA
HOFFMAN, THOMAS BRETT | 09/20/2001
VISTA, CA
HOWELL, RALPH GREGORY | 09/20/2001
CLOVIS, CA
HUFFMAN, SHARON LEA | 09/20/2001
METAIRIE, LA
HUNTER, DONALD E | 09/20/2001
FAIRBORN, OH
JENSEN, CLAUDIA JANE | 09/20/2001
VENTURA, CA
JERUZAL, FRANCIS X | 09/20/2001
OSHKOSH, WI
KAHANEK, CAROL A | 09/20/2001
SANTA CRUZ, CA
KILLIAN, JAMES KEITH | 09/20/2001
OKLAHOMA CITY, OK
LARA, ADRIENNE E | 09/20/2001
CHESTNUT HILL, MA
LENARD, ALEXANDER N | 09/20/2001
MIAMI BEACH, FL
LY, HUNG THIEN | 09/20/2001
SAVANNAH, GA
MACK, OLLIE R JR | 09/20/2001
SACRAMENTO, CA
MALIN, MAUREEN A | 09/20/2001
MILTON, MA
MELNAR, RANDALL K | 09/20/2001
N LITTLE ROCK, AR
MILLER, JENNIFER K | 09/20/2001
BOZEMAN, MT
MORAN, JOSEPH E | 09/20/2001
WILKES BARRE, PA
MURPHY, MONICA J | 09/20/2001
BAKERSFIELD, CA
MUSTO, JAMES J | 09/20/2001
FORTY FORT, PA
MYERS, TERESA L | 09/20/2001
MURPHYSBORO, IL
NYMAN, DAVID WILLIAM | 09/20/2001
TUCSON, AZ
OLIVERA, PABLO R | 09/20/2001
NEWARK, NJ
PHILLIPS, GUY E JR | 09/20/2001
CINCINNATI, OH
PIZARRO, MARINA P | 09/20/2001
ORLANDO, FL
PRITCHARD, DOYLE P | 09/20/2001
EL CENTRO, CA
RAFFERTY, DIANNA L | 09/20/2001
UNIONTOWN, PA
RODAK, RANDALL RAYMOND | 09/20/2001
SALIDA, CO
SEDOVSKY, JEFFREY R | 09/20/2001
WALTHAM, MA
SHIENVOLD, FRANCES L | 09/20/2001
ORLANDO, FL
SIMON, CATHY L | 09/20/2001
ALISO VEJO, CA
STERMETZ, CHARLES K | 09/20/2001
CHANDLER, AZ
STYCHNO, CHRISTOPHER P | 09/20/2001
WARREN, OH
TEAGUE, JENETTE | 09/20/2001
LOS ANGELES, CA
VAN WHY, KENT JOHN | 09/20/2001
DAVENPORT, IA
VERRILLA, RONALD G | 09/20/2001
PENN HILLS, PA
WHEELER, TREV D | 07/23/2001
NYSSA, OR
WIELAND, DAVID M | 09/20/2001
LARGO, FL
WITT, RODNEY PAUL | 09/20/2001
NIXA, MO
YORK, LISA ROBIN | 09/20/2001
TULSA, OK

Dated: September 6, 2001.
Calvin Anderson, Jr.,
Director, Health Care Administrative Sanctions, Office of Inspector General.

[FR Doc. 01-23560 Filed 9-20-01; 8:45 am]

BILLING CODE 4150-04-P